DEPARTMENT OF THE INTERIOR

National Park Service

[NPS-WASO-NAGPRA-NPS0028266; PPWOCRADN0-PCU00RP14.R50000]

Notice of Inventory Completion: Peabody Museum of Archaeology and Ethnology, Harvard University, Cambridge, MA

AGENCY: National Park Service, Interior.

ACTION: Notice.

SUMMARY: The Peabody Museum of Archaeology and Ethnology has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Peabody Museum of Archaeology and Ethnology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Peabody Museum of Archaeology and Ethnology at the address in this notice by August 8, 2019.

ADDRESSES: Patricia Capone, Peabody Museum of Archaeology and Ethnology, Harvard University, 11 Divinity Avenue, Cambridge, MA 02138, telephone (617) 496-3702, email pcapone@fas.harvard .edu.

SUPPLEMENTARY INFORMATION: Notice is here given in accordance with the Native American Graves Protection and Repatriation Act (NAGPRA), 25 U.S.C. 3003, of the completion of an inventory of human remains and associated funerary objects under the control of the Peabody Museum of Archaeology and Ethnology, Harvard University, Cambridge, MA. The human remains and associated funerary objects were removed from Shawnee Island, Smithfield Township, Monroe County, PA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Peabody Museum of Archaeology and Ethnology professional staff in consultation with representatives of the Absentee-Shawnee Tribe of Indians of Oklahoma; Delaware Nation, Oklahoma; Delaware Tribe of Indians; Eastern Shawnee Tribe of Oklahoma; Shawnee Tribe; and the Stockbridge Munsee Community, Wisconsin.

History and Description of the Remains

In 1878, human remains representing, at minimum, one individual were removed from Shawnee Island, Smithfield Township, Monroe County, PA, by Charles C. Abbott during a Peabody Museum-sponsored expedition and were sent to the Peabody Museum in July 1878. No known individuals were identified. The four associated funerary objects are one white clay tobacco pipe, two blue glass beads, and one lot of wampum beads. All of the associated funerary objects with the exception of the pipe were also sent to the Peabody Museum in July 1878; the pipe was sent to the Museum in October 1878.

Abbott described the collection location for the human remains and objects as “big Shawnee Island 4 ms. above Delaware Water Gap” in New Jersey. The island Abbott references is likely Shawnee Island, which is located on the Pennsylvania side of the Delaware River in the Delaware Water Gap region in Smithfield Township, Monroe County. Abbott may have been unaware of the location of Shawnee Island in relation to the state line and consequently misattributed it to New Jersey. Shawnee Island has been documented by variants of that name since its first purchase in 1727, including “Shawna Island,” “Great Shawna,” and “Shawano.”

Osteological characteristics indicate that this individual is Native American. This interment likely dates to the Contact Period (post A.D. 1640), based on the date ranges of the associated funerary objects. The white clay tobacco pipe is Dutch in form and resembles Friederich's Dutch pipe index type 9166 of group 1, with a date range of 1640-1655. This pipe very closely resembles pipes produced by Edward Bird, whose pipes were manufactured from approximately 1638 until 1665. The pipe's bore diameter is 8/64″, a diameter typically dated to 1620-1650 but extending to 1680. The pipe's shape, bore size, and maker's mark suggest that it was manufactured by Edward Bird between 1640 and 1655. The two glass beads are of Kidd and Kidd type IIIa12, consisting of tubular drawn, compound beads with a bright blue exterior and core and an opaque white layer in between, and are common on Native sites from the 1640s through the 1650s. The white clay tobacco pipe and two glass beads support a Contact Period date range of A.D. 1640-1659.

Archeological evidence, historical documentation, and oral histories indicate that the identifiable earlier group for the human remains and associated funerary objects is the Munsee-speaking Lenape people, also known as the Minisink or Munsee. The human remains and associated funerary objects were collected from an area of the Delaware Water Gap considered to be part of the aboriginal homelands and traditional burial areas of the Munsee-speaking Lenape people. Although the Shawnee briefly occupied a portion of the Delaware River Valley from 1694 until 1728, there is insufficient archeological, anthropological, linguistic, and historical evidence to place the Shawnee settlement in the area of Shawnee Island. As the Munsee-speaking Lenape migrated west, they joined communities at Stockbridge and further west, including Unami-speaking Lenape (Delaware) communities, and established present-day communities in Oklahoma, Ontario, and Wisconsin. The descendants of the Munsee-speaking Lenape are found among the present-day Delaware Nation, Oklahoma; Delaware Tribe of Indians; and Stockbridge Munsee Community, Wisconsin.

Determinations Made by the Peabody Museum of Archaeology and Ethnology

Officials of the Peabody Museum of Archaeology and Ethnology have determined that:

• Pursuant to 25 U.S.C. 3001(9), the human remains described in this notice represent the physical remains of one individual of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and the Delaware Nation, Oklahoma; Delaware Tribe of Indians; and the Stockbridge Munsee Community, Wisconsin.

Additional Requestors and Disposition

Lineal descendants or representatives of any Indian Tribe or Native Hawaiian organization not identified in this notice that wish to request transfer of control of these human remains and associated funerary objects should submit a written request with information in support of the request to Patricia Capone, Peabody Museum of Archaeology and Ethnology, Harvard University, 11 Divinity Avenue, Cambridge, MA 02138, telephone (617) 496-3702, email pcapone@fas.harvard .edu, by August 8, 2019. After that date, if no additional requestors have come forward, transfer of control of the human remains and associated funerary objects to the Delaware Nation, Oklahoma; Delaware Tribe of Indians; and the Stockbridge Munsee Community, Wisconsin may proceed.

The Peabody Museum of Archaeology and Ethnology is responsible for notifying the Absentee-Shawnee Tribe of Indians of Oklahoma; Delaware Nation, Oklahoma; Delaware Tribe of Indians; Eastern Shawnee Tribe of Oklahoma; Shawnee Tribe; and the Stockbridge Munsee Community, Wisconsin that this notice has been published.

Dated: June 21, 2019.
Melanie O'Brien,
Manager, National NAGPRA Program.

[FR Doc. 2019-14567 Filed 7-8-19; 8:45 am]

BILLING CODE 4312-52-P